DEPARTMENT OF AGRICULTURE

Rural Business-Cooperative Service

[Docket No. RBS-22-BUSINESS-0029]

Notice of Solicitation of Applications for the Rural Energy for America Program for Fiscal Years 2023 and 2024, Correction

AGENCY: Rural Business-Cooperative Service, USDA.

ACTION: Notice, correction.

SUMMARY: The Rural Business-Cooperative Service (the Agency) published a Notice of Solicitation of Applications (NOSA) in the Federal Register on March 31, 2023, entitled Notice of Solicitation of Applications for the Rural Energy for America Program for Fiscal Years 2023 and 2024 to announce the availability of $1.055 billion in Inflation Reduction Act funds across six quarterly cycles to be obligated by September 30, 2024. The Notice also announced the types of projects that would qualify for a federal grant share not to exceed 50 percent of the project cost, a set-aside for underutilized renewable energy technologies (underutilized technologies), as well as scoring revisions to support Administration priorities. This correction notice is amending the definition of underutilized renewable energy technologies.

FOR FURTHER INFORMATION CONTACT: Jonathan Burns, Program Management Division, Rural Business-Cooperative Service, United States Department of Agriculture, 774-678-7238 or email CPgrants@usda.gov.

SUPPLEMENTARY INFORMATION:

Correction

In FR Doc. 2023-06376 of March 31, 2023 (88 FR 19239), on page 19240, in column 3, under Section A.3, the second paragraph that starts with “For the purpose of this Notice,” is being replaced with:

For the purpose of this Notice only, underutilized renewable energy technologies (underutilized technologies) are defined as those technologies which make up less than 20 percent of the total grant dollars obligated at the end of the fiscal year, two (2) fiscal years prior to the current year. No single technology may receive more than 50 percent of the total funding available in each fiscal year, excepting years in which all underutilized technology applications have been processed, and applications remain unfunded with funding still available in the set-aside.” For example, FY 2021 award data will be utilized to determine which technologies are underutilized technologies for the FY 2023 competition.

Karama Neal,
Administrator, Rural Business-Cooperative Service.

[FR Doc. 2023-11435 Filed 5-30-23; 8:45 am]

BILLING CODE 3410-XY-P